DEPARTMENT OF TRANSPORTATION

Federal Railroad Administration

[Docket No. FRA-2014-0011-N-15]

Proposed Agency Information Collection Activities; Comment Request

AGENCY: Federal Railroad Administration (FRA), Department of Transportation (DOT).

ACTION: Notice.

SUMMARY: In accordance with the Paperwork Reduction Act of 1995 and its implementing regulations, the Federal Railroad Administration (FRA) hereby announces that it is seeking renewal of the following currently approved information collection activities. Before submitting the information collection request (ICR) below for clearance by the Office of Management and Budget (OMB), FRA is soliciting public comment on specific aspects of the activities identified below.

DATES: Comments must be received no later than October 6, 2014.

ADDRESSES: Submit written comments on any or all of the following proposed activities by mail to either: Mr. Robert Brogan, Office of Safety, Planning and Evaluation Division, RRS-21, Federal Railroad Administration, 1200 New Jersey Ave. SE., Mail Stop 17, Washington, DC 20590, or Ms. Kimberly Toone, Office of Information Technology, RAD-20, Federal Railroad Administration, 1200 New Jersey Ave. SE., Mail Stop 35, Washington, DC 20590. Commenters requesting FRA to acknowledge receipt of their respective comments must include a self-addressed stamped postcard stating, “Comments on OMB control number 2130-0595.” Alternatively, comments may be transmitted via facsimile to (202) 493-6216 or (202) 493-6497, or via email to Mr. Brogan at Robert.Brogan@dot.gov, or to Ms. Toone at Kim.Toone@dot.gov. Please refer to the assigned OMB control number in any correspondence submitted. FRA will summarize comments received in response to this notice in a subsequent notice and include them in its information collection submission to OMB for approval.

FOR FURTHER INFORMATION CONTACT: Mr. Robert Brogan, Office of Planning and Evaluation Division, RRS-21, Federal Railroad Administration, 1200 New Jersey Ave. SE., Mail Stop 17, Washington, DC 20590 (telephone: (202) 493-6292) or Ms. Kimberly Toone, Office of Information Technology, RAD-20, Federal Railroad Administration, 1200 New Jersey Ave. SE., Mail Stop 35, Washington, DC 20590 (telephone: (202) 493-6132). (These telephone numbers are not toll-free.)

SUPPLEMENTARY INFORMATION: The Paperwork Reduction Act of 1995 (PRA), Public Law 104-13, sec. 2, 109 Stat. 163 (1995) (codified as revised at 44 U.S.C. 3501-3520), and its implementing regulations, 5 CFR part 1320, require Federal agencies to provide 60-days notice to the public for comment on information collection activities before seeking approval for reinstatement or renewal by OMB. 44 U.S.C. 3506(c)(2)(A); 5 CFR 1320.8(d)(1), 1320.10(e)(1), 1320.12(a). Specifically, FRA invites interested respondents to comment on the following summary of proposed information collection activities regarding (i) whether the information collection activities are necessary for FRA to properly execute its functions, including whether the activities will have practical utility; (ii) the accuracy of FRA's estimates of the burden of the information collection activities, including the validity of the methodology and assumptions used to determine the estimates; (iii) ways for FRA to enhance the quality, utility, and clarity of the information being collected; and (iv) ways for FRA to minimize the burden of information collection activities on the public by automated, electronic, mechanical, or other technological collection techniques or other forms of information technology (e.g., permitting electronic submission of responses). See 44 U.S.C. 3506(c)(2)(A)(i)-(iv); 5 CFR 1320.8(d)(1)(i)-(iv). FRA believes that soliciting public comment will promote its efforts to reduce the administrative and paperwork burdens associated with the collection of information mandated by Federal regulations. In summary, FRA reasons that comments received will advance three objectives: (i) Reduce reporting burdens; (ii) ensure that it organizes information collection requirements in a “user friendly” format to improve the use of such information; and (iii) accurately assess the resources expended to retrieve and produce information requested. See 44 U.S.C. 3501.

Below is a brief summary of currently approved information collection activities that FRA will submit for clearance by OMB as required under the PRA:

Title: Safety and Health Requirements Related to Camp Cars.

OMB Control Number: 2130-0595.

Abstract: To carry out a 2008 Congressional rulemaking mandate, FRA issued new regulations on October 31, 2011. See 76 FR 67073. New subpart E of part 228 prescribed minimum safety and health requirements for camp cars that a railroad provides as sleeping quarters to any of its train employees, signal employees, and dispatching service employees (covered-service employees) and individuals employed to maintain its right of way.

Under separate but related statutory authority, FRA also amended its regulations at 49 CFR part 228, subpart C regarding construction of employee sleeping quarters. In particular, FRA's existing guidelines with respect to the location, in relation to switching or humping of hazardous material, of a camp car that is occupied exclusively by individual's employed to maintain a railroad's right of way are being replaced with regulatory amendments prohibiting a railroad from positioning such a camp car in the immediate vicinity of the switching or humping of hazardous material.

Finally, FRA made miscellaneous changes to part 228, clarifying its provision on applicability, removing an existing provision on the pre-emptive effect of part 228 as unnecessary, and moving, without changing, an existing provision on penalties for violation of part 228 from subpart B to subpart A.

The information collected under this rule is used by FRA to ensure that railroads operating camp cars comply with all the requirements mandated in this regulation in order to protect the health and safety of camp car occupants.

Form Number(s): N/A.

Affected Public: Businesses.

Respondent Universe: 1 Class I railroad.

Frequency of Submission: On occasion.

Reporting Burden:

CFR section | Respondent universe | Total annual responses | Average time per response | Total annual burden hours
228.323—Copy—Water Hydrant/Hoses/Nozzle Inspections | 1 railroad | 740 Inspections | 3 minutes | 37
—Hydrant/Hoses/Nozzle Inspections—Records | 1 railroad | 740 Records | 2 minutes | 25
—Copy of records at Central Location | 1 railroad | 740 Record copies | 10 seconds | 2
—Training—For Individuals to Fill Potable Water Systems | 1 railroad | 37 Trained employees | 15 minutes | 9
—Training Materials | 1 railroad | 1 Set of training materials | 4 hours | 4
—Certification from State/Local Health Authority | 1 railroad | 666 Certificates | 1 hour | 666
—Certification by Laboratory | 1 railroad | 74 Certificates | 20 minutes | 25
—Certification Copies | 1 railroad | 740 Certification copies | 10 seconds | 2
—Draining/Flushing and Record | 1 railroad | 111 Records | 30 minutes | 56
—Occupant Report of Taste Problem | 1 railroad | 10 Taste reports | 10 seconds | .028
—Draining/Flushing and Record When Taste Report | 1 railroad | 10 Records | 30 minutes | 5
—Lab Tests from Taste Report | 1 railroad | 10 Tests/certificates | 20 minutes | 3
—Lab Report Copies | 1 railroad | 10 Lab report copies | 2 minutes | .3333
—Signage (for Non-Potable Water) | 1 railroad | 740 Signs | 2.5 minutes | 31
228.331—First Aid and Life Safety:
—Master Emergency Plan | 1 railroad | 1 Plan | 1.5 hours | 1.5
—Master Emergency Plan Copies | 1 railroad | 292 Copies | 3 seconds | .2433
—Modified Emergency Preparedness Plans | 1 railroad | 740 Modified Plans | 15 minutes | 19
—Modified Emergency Preparedness Plan Copies | 1 railroad | 5,840 Plan Copies | 3 seconds | 5
228.333—Remedial Action
—Oral Report of Needed Repair | 1 railroad | 30 Reports | 10 seconds | .08333

Total Estimated Responses: 11,522.

Total Estimated Annual Burden: 892 hours.

Status: Extension of a Currently Approved Collection.

Pursuant to 44 U.S.C. 3507(a) and 5 CFR 1320.5(b), 1320.8(b)(3)(vi), FRA informs all interested parties that it may not conduct or sponsor, and a respondent is not required to respond to, a collection of information unless it displays a currently valid OMB control number.

Authority: 44 U.S.C. 3501-3520.

Issued in Washington, DC, on July 31, 2014.
Rebecca Pennington,
Chief Financial Officer.

[FR Doc. 2014-18499 Filed 8-4-14; 8:45 am]

BILLING CODE 4910-06-P